DEPARTMENT OF LABOR

Office of the Secretary

Combating Exploitive Child Labor through Education in Zambia

AGENCY: Bureau of International Labor Affairs, Department of Labor.

Announcement Type: New. Notice of Intent to Fund Sole Source Award.

Catalog of Federal Domestic Assistance (CFDA) Number: Not applicable.

SUMMARY: The U.S. Department of Labor (USDOL), Bureau of International Labor Affairs (ILAB), intends to award U.S. $750,000 through a sole source cooperative agreement to Jesus Cares Ministries (JCM), a local, Zambian, faith-based organization. This funding will be used to support a three-year second phase of the JCM project “Combating Child Labor Through Education”.

Funding for this award is based on the FY 2005 appropriation to USDOL for improving “access to basic education in international areas with a high rate of abusive and exploitative child labor” through the Child Labor Education Initiative grant program. Since 1995, USDOL has awarded grants to international and non-governmental organizations working to eliminate the worst forms of child labor through the provision of basic education.

ILAB is authorized to award and administer this program by the Consolidated Appropriations Act, 2005, Pub. L. 108-447, 118 Stat. 2809 (2004). The cooperative agreement awarded under this initiative will be managed by ILAB's International Child Labor Program (ICLP) to assure achievement of the stated goals.

ILAB finds JCM is uniquely qualified by virtue of its institutional and individual knowledge of conditions in Zambia, its familiarity with local officials and support groups, and its readily available personnel and facilities, to provide the kinds of services needed to best reach the intended target group in Zambia—children working in the worst forms of child labor and those at-risk of entering such work, including children working in stone crushing, in exploitive agricultural work, and those who live and work on streets in urban areas. The range of services provided by JCM includes counseling, provision of transitional and vocational education, and placement of children in formal schools. JCM also has been instrumental in protecting children affected by HIV/AIDS from entering harmful labor conditions in Zambia, where the HIV/AIDS pandemic has left hundreds of thousands of children vulnerable to such exploitation.

USDOL's experience working with JCM dates back to 2002, when JCM submitted a proposal to USDOL in response to a solicitation for grant applications under USDOL's Child Labor Education Initiative (EI). As a result of that competitive procurement process, USDOL entered into a cooperative agreement with JCM to implement an EI project in Zambia. JCM has been innovative in using a community school approach to reach the over 2,000 children that it targeted in Phase 1 of the project. JCM was also successful in meeting all of the other goals it set for the first phase of the project. Moreover, this approach has encouraged local ownership and buy-in of the project. JCM has also secured additional funding from the Zambian government and from international organizations to complement its activities under their USDOL grant. JCM is staffed entirely by host country nationals and operates in several urban parts of the country, as well as in Zambia's Eastern Province.

Given the extensive stakeholder relationships that JCM has nurtured in Zambia, their innovative community school approach, and efficient management structure, USDOL finds JCM to be uniquely qualified for this sole source award. The awarding of further USDOL support for JCM will allow it to reach many more vulnerable children and further expand its role as a leading local organization working to eliminate the worst forms of child labor in Zambia.

For additional information on this award, please contact Kevin Willcutts at (202) 693-4843.

Intergovernmental Review

This funding opportunity is not subject to Executive Order 12372, “Intergovernmental Review of Federal Programs.”

Signed in Washington, DC, this 26th day of July, 2005.
Lisa Harvey,
Grant Officer.

[FR Doc. 05-15285 Filed 8-2-05; 8:45 am]

BILLING CODE 4510-28-P